DEPARTMENT OF ENERGY

10 CFR Parts 429 and 431

[Docket No. EERE-2011-BT-STD-0031]

RIN 1904-AC54

Energy Conservation Program: Energy Conservation Standards for Pumps; Correction

AGENCY: Office of Energy Efficiency and Renewable Energy, Department of Energy.

ACTION: Notice of proposed rulemaking (NOPR) and public meeting; correction.

SUMMARY: On April 2, 2015, the U.S. Department of Energy (DOE) published in the Federal Register a notice of proposed rulemaking (NOPR) and public meeting for Energy Conservation Program: Energy Conservation Standards for Pumps. This document corrects the terms in one of the equations.

FOR FURTHER INFORMATION CONTACT: John Cymbalsky, U.S. Department of Energy, Office of Energy Efficiency and Renewable Energy, Building Technologies Program, EE-5B, 1000 Independence Avenue SW., Washington, DC 20585-0121. Telephone: (202) 287-1692. Email: pumps@ee.doe.gov.

DATES: April 24, 2015.

Correction

In the Federal Register published on April 2, 2015, in FR Doc. 2015-06947, make the following correction:

On page 17836: Equation 2 is corrected by removing “13.46” and adding in its place “17.80”. The corrected equation reads as follows:

ηpump,STD = −0.85 * ln(Q100%%)² − 0.38 * ln(Ns) * ln(Q100%%) − 11.48 * ln(Ns)² + 17.80 * ln(Q100%%) + 179.80 * ln (Ns) − (C − 555.6)

Issued in Washington, DC, on April 20, 2015.
Kathleen B. Hogan,
Deputy Assistant Secretary for Energy Efficiency, Energy Efficiency and Renewable Energy.

[FR Doc. 2015-09565 Filed 4-23-15; 8:45 am]

BILLING CODE 6450-01-P